DEPARTMENT OF ENERGY

Federal Energy Regulatory Commission

[Project No. 13310-000]

Grays Harbor Ocean Energy Company, LLC; Notice of Preliminary Permit Applications Accepted for Filing and Soliciting Comment, Motions To Intervene, and Competing Applications

November 28, 2008.

On October 22, 2008, Grays Harbor Ocean Energy Company, LLC filed an application, pursuant to section 4(f) of the Federal Power Act, proposing to study the feasibility of the Cape Islands Ocean Energy Project, to be located on the Atlantic Ocean 12 to 25 miles offshore from Dukes and Nantucket Counties, Massachusetts.

The proposed Cape Island Ocean Energy Project consists of: (1) 100 proposed 1 megawatt OceanLinx Wave Energy Converter generating units having a total installed capacity of 100 megawatts, (2) a proposed transmission line, and (3) appurtenant facilities. The Grays Harbor Ocean Energy Company, LLC, project would have an average annual generation of 300 gigawatt-hours and be sold to a local utility.

Applicant Contact: Mr. W. Burton Hamner, Grays Harbor Ocean Energy Company, LLC, 5534 30th Avenue, NE., Seattle, WA 98105, phone (206) 491-0945.

FERC Contact: Robert Bell, (202) 502-6062.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13310) in the docket number field to access the document. For assistance, call toll-free 1-866-208-3372.

Kimberly D. Bose,
Secretary.

[FR Doc. E8-28784 Filed 12-4-08; 8:45 am]

BILLING CODE 6717-01-P